DEPARTMENT OF DEFENSE

Department of the Army; Corps of Engineers

Intent To Prepare a Combined Draft Environmental Impact Statement for the Following Three Aquifer Storage and Recovery Pilot Projects: Caloosahatchee River Aquifer Storage and Recovery Pilot Project Located Southwest of La Belle on the Berry Groves Property, Hendry County, Florida; Hillsboro Aquifer Storage and Recovery Pilot Project Adjacent to the Hillsboro Canal, Palm Beach Country, FL; and Lake Okeechobee Aquifer Storage and Recovery Pilot Project at Three Locations Adjacent to Lake Okeechobee, with Components in Martin, Okeechobee, and Glades County, FL

AGENCY: Department of the Army, U.S. Army Corps of Engineers, DoD.

ACTION: Notice of intent.

SUMMARY: The Jacksonville District, U.S. Army Corps of Engineers (Corps), intends to prepare a combined Draft Environmental Impact Statement (DEIS) for three Aquifer Storage and Recovery (ASR) pilot projects. Notices of intent (NOI) for each of these projects were previously published separately in the Federal Register: (1) The Lake Okeechobee ASR Pilot NOI was published July 19, 2002 (67 FR 47527); (2) The Hillsboro ASR Pilot NOI was published May 31, 2002 (67 FR 38077); (3) The Calosahatchee ASR Pilot NOI was published March 28, 2003 (68 FR 15157). Given their similarities and shared objective(s), it was decided to combine these projects into one DEIS. These three projects will consider the same alternatives—each testing separate technologies in order to obtain data on the feasibility and success of each alternative. These pilot studies are a cooperative effort between the Corps and the South Florida Water Management District (SFWMD), which is also a cooperating agency for this DEIS. For additional information on these projects please see the previously published NOIs for each pilot.

FOR FURTHER INFORMATION CONTACT: Ms. Susan Conner, U.S. Army Corps of Engineers, Planning Division, Environmental Branch, P.O. Box 4970, Jacksonville, FL 32232-0019, or by telephone at 904-232-1782.

SUPPLEMENTARY INFORMATION: a. For information concerning authorization, project scope, preliminary alternatives, issues, scoping, coordination, agency role, and other environmental review and consultation please refer to the previously published NOIs for each project, cited above.

b. Public Involvement: We invite the participation of affected Federal, state and local agencies, affected Indian tribes, and other interested private organizations and parties.

c. DEIS Preparation: The combined DEIS for the three pilot projects is currently estimated for publication in December 2003.

Dated: October 1, 2003.
James C. Duck,
Chief, Planning Division.

[FR Doc. 03-25761 Filed 10-9-03; 8:45 am]

BILLING CODE 3710-AJ-M